DEPARTMENT OF THE INTERIOR

National Park Service

Native American Graves Protection and Repatriation Review Committee: Meeting

AGENCY: National Park Service.

ACTION: Notice.

Notice is hereby given in accordance with the Federal Advisory Committee Act (FACA), 5 U.S.C. Appendix (1988), that a meeting of the Native American Graves Protection and Repatriation Review Committee will be held on May 31, and June 1 and 2, 2001, in Kelseyville, CA.

The review committee will meet at the Konocti Harbor Resort & Spa, 8727 Soda Bay Road, Kelseyville, CA 95451, telephone (707) 279-4281, fax (707) 279-8575.

The agenda for the meeting will include 1999/2000 and 2001 Reports to Congress, discussion of Federal agency compliance, consideration of a dispute proposed by the Fallon Paiute-Shoshone tribe, contamination of cultural items, reburial on Federal lands, and implementation of the statute in the West.

A block of lodging rooms has been set aside at the Konocti Harbor Resort & Spa. Reservations must be made by May 1, 2001, to guarantee the reduced rate available for persons attending this meeting. Please reference the National Park Service and the NAGPRA Review Committee meeting when making reservations.

Meeting sessions will begin at 8:30 a.m. and will end no later than 5:00 p.m. each day. The meeting is open to the public. Meeting space is limited. Persons will be accommodated on a first-come, first-served basis.

Persons wishing to make a presentation to the review committee should submit a request to do so by May 1, 2001. Please submit a written abstract of your presentation and your contact information. Any member of the public may also file a written statement for consideration by the review committee by May 16, 2001. Written requests and statements should be addressed to the review committee in care of the Assistant Director, Cultural Resources Stewardship and Partnerships, 1849 C Street NW-350 NC, Washington, DC 20240.

Persons wishing further information concerning this meeting may contact Mr. John Robbins, Assistant Director, Cultural Resources Stewardship and Partnerships, 1849 C Street NW-350 NC, Washington, DC 20240, telephone (202) 343-3387, fax (202) 343-5260, e-mail john< robbins@nps.gov. Transcripts of the meeting will be available for public inspection approximately eight weeks after the meeting at the office of the Assistant Director, Cultural Resources Stewardship and Partnerships, 800 North Capitol Street NW, Suite 350, Washington, DC 20001.

The Native American Graves Protection and Repatriation Review Committee was established by Public Law 101-601 to monitor, review, and assist in implementation of the inventory and identification process and repatriation activities required under the Native American Graves Protection and Repatriation Act.

Dated: March 7, 2001.
John Robbins,
Assistant Director, Cultural Resources Stewardship and Partnerships

[FR Doc. 01-7382 Filed 3-23-01; 8:45 am]

BILLING CODE 4310-70-F